Title 3—

The President

Proclamation 10599 of July 14, 2023

Captive Nations Week, 2023

By the President of the United States of America

A Proclamation

During Captive Nations Week, we reaffirm our support for brave people around the world who are standing up to oppressive rule and striving for greater freedom, greater dignity, and greater democracy.

When President Dwight D. Eisenhower proclaimed the first Captive Nations Week in 1959, he appealed directly to the hundreds of millions living behind the Iron Curtain—firm in the knowledge that authoritarianism could never erase a people's love of liberty. Over the coming decades, courageous women and men joined together to demand their fundamental freedoms and human rights. But the battle against oppression did not end with the Cold War. The forces of autocracy continue to reassert themselves. In Iran, Belarus, Syria, Cuba, Venezuela, Nicaragua, the Democratic People's Republic of Korea, the People's Republic of China, and elsewhere, we are seeing an all too familiar contempt for the rule of law, for democracy, for human rights, and even for the truth itself.

This is all too evident in Russia's brutal aggression against its neighbor Ukraine and in the Ukrainian people's courageous defense of their sovereignty, freedom, land, and lives. And around the world, countless more are working every day in their own countries to advance the essential democratic principles that unite free people everywhere: the rule of law; free and fair elections; the freedom of the press; the freedom to speak, write, and assemble; and the freedom to worship as one chooses. These advocates and champions of democracy are living proof that the darkness that drives autocracy can never extinguish the flame of liberty that lights the souls of free people everywhere.

The United States is proud to stand with all those who fight for freedom. We will continue supporting democratic reformers and human rights defenders around the world, who are working for a future where women and girls can exercise their rights equally and contribute fully to society, where members of religious and ethnic minorities can live their lives without harassment, where LGBTQI+ people can live and love freely, and where citizens and the press can question and criticize their leaders without fear of reprisal.

Two years ago, at the first Summit for Democracy, I was proud to launch the Presidential Initiative for Democratic Renewal, with more than $400 million in initiatives to defend and grow democratic resilience with partners around the globe. This year, at our second Summit, I committed another $690 million to keep growing our work to advance democracy internationally. Democracy—transparent and accountable government of, for, and by the people—is our most powerful tool to realize lasting peace, expand prosperity, and protect human dignity.

The United States will continue to lead not just by the example of our power but the power of our example. That is why, since my first day in office, my Administration has also taken decisive action to restore and strengthen democracy here at home. I issued an Executive Order promoting access to voter registration and election information, and I signed into law the Electoral Count Reform Act, which helps preserve the will of the people against future attempts to overturn our elections. The Department of Justice has strengthened its ability to fight unlawful voter suppression. And I continue to call on the Congress to pass the Freedom to Vote Act and the John Lewis Voting Rights Advancement Act.

During this Captive Nations Week, as we honor the bravery of democratic reformers and human rights defenders everywhere, I am reminded of the words of the philosopher Kierkegaard: “Faith sees best in the dark.” To those living in darkness today: We honor your resilience. To those who are committed to the cause of liberty: We are your partner for a better future.

The Congress, by joint resolution approved July 17, 1959 (73 Stat. 212), has authorized and requested the President to issue a proclamation designating the third week of July of each year as “Captive Nations Week.”

NOW, THEREFORE, I, JOSEPH R. BIDEN JR., President of the United States of America, do hereby proclaim July 16 through July 22, 2023, as Captive Nations Week. I call upon all Americans to reaffirm our commitment to championing those around the world who are working, often at great personal risk, to secure liberty and justice for all.

IN WITNESS WHEREOF, I have hereunto set my hand this fourteenth day of July, in the year of our Lord two thousand twenty-three, and of the Independence of the United States of America the two hundred and forty-eighth.

[FR Doc. 2023-15416

Filed 7-18-23; 8:45 am]

Billing code 3395-F3-P